DEPARTMENT OF HEALTH AND HUMAN SERVICES

Administration for Children and Families

Submission for OMB Review; Comment Request

Title: The Evaluation and System Design for Career Pathways Programs: 2nd Generation of HPOG (HPOG Next Gen Design).

OMB No.: New Collection.

Description: The Administration for Children and Families (ACF), U.S. Department of Health and Human Services (HHS) is proposing information collection activities as part of the Evaluation and System Design for Career Pathways Programs: 2nd Generation of Health Profession Opportunity Grants (HPOG Next Gen Design). The key goals of the HPOG Next Gen Design project are to establish a data system for program management and evaluation, and to design a study to assess the effectiveness of the new HPOG programs. The study also is intended to evaluate variation in participant impact that may be attributable to different HPOG program components. The impact study design will include a classic experiment in which eligible applicants for the non-Tribal HPOG program services will be randomly assigned to a treatment group offered participation in HPOG and a control group not offered the opportunity to enroll in HPOG. There will be a separate but coordinated evaluation of the HPOG Next Gen Tribal grantees. Both goals require collecting information from HPOG Next Gen grantees on a regular basis. The information collection proposed is an Internet-based collection of information from HPOG Next Gen grantees on: (1) Grantee program designs and offerings; (2) intake information on eligible applicants (both treatment and control) through baseline data collection; and (3) individual enrolled program participants' activities and outcomes.

The universe of information collection proposed for HPOG Next Gen includes the HPOG Next Gen Participant Accomplishment and Grant Evaluation System (PAGES). PAGES is a performance management system that will collect information from all grantees on their programs and participants on a semi-annual basis over the grant period of performance and intake information on eligible applicants (both treatment and control) through baseline data collection. The data system will meet the performance data needs of the HPOG Next Gen grantees and of the ACF Office of Family Assistance to monitor the performance of the grants and prepare the report to Congress on the grants, as well as support an impact study, a coordinated Tribal evaluation, and other future research and evaluation efforts sponsored by ACF.

Respondents: Grantee- and participant-level data to be collected by program staff in the approximately 40 grantee organizations (higher education institutions, workforce investment boards, private training institutions, nonprofit organizations, and tribal entities). Applicants at the 40 grantee organizations.

Annual Burden Estimates
Instrument | Total number of respondents | Annual number of respondents | Number of responses per respondent | Average burden hours per response | Annual burden hours
PAGES Grantee—and Participant-Level Data Collection (all grantees) | 120 | 40 | 2 | 31.75 | 2,540
PAGES Participant-Level Baseline Data Collection (participants at non-Tribal grantees participating in impact study) | 31,500 | 10,500 | 1 | .5 | 5,250
PAGES Participant-Level Baseline Data Collection (participants at Tribal grantees) | 1,200 | 400 | 1 | .25 | 100
Estimated Total Annual Burden Hours: |  |  |  |  | 7,890

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Karl Koerper,
OPRE Reports Clearance Officer.

[FR Doc. 2015-11266 Filed 5-8-15; 8:45 am]

BILLING CODE 4184-72-P